DEPARTMENT OF ENERGY

Energy Information Administration

Agency Information Collection Extension

AGENCY: U.S. Energy Information Administration (EIA), Department of Energy (DOE).

ACTION: Notice and request for comments.

SUMMARY: EIA requests a three-year extension, with changes to the Electric Power & Renewable Electricity Surveys (EPRES) as required under The Paperwork Reduction Act of 1995. The EPRES consists of nine surveys, including annual, monthly and a daily survey. These surveys collect data from entities involved in the production, transmission, delivery, and sale of electricity, and in maintaining the reliable operation of the power system. The data collected are the primary source of information on the nation's electric power system. The renewable energy survey collects information on the manufacture, shipment, import, and export of photovoltaic cells and modules, and is the primary national source of information on these topics.

DATES: EIA must receive all comments on this proposed information collection no later than June 24, 2019. If you anticipate any difficulties in submitting your comments by the deadline, contact the person listed in the ADDRESSES section of this notice as soon as possible.

ADDRESSES: Send your comments to Sara Hoff, Office of Electricity, Renewables, and Uranium Statistics, U.S. Energy Information Administration, Forrestal Building, U.S. Department of Energy, 1000 Independence Ave. SW, EI-23, Washington, DC 20585. Submission via email to Electricity2020@eia.gov is recommended.

FOR FURTHER INFORMATION CONTACT: Sara Hoff, (202) 586-1242 email: Electricity2020@eia.gov. The forms and instructions are available on EIA's website at https://www.eia.gov/survey/.

SUPPLEMENTARY INFORMATION: This information collection request contains:

(1) OMB No. 1905-0129.

(2) Information Collection Request Title: Electric Power & Renewable Electricity Surveys;

(3) Type of Request: Renewal with changes;

(4) Purpose: EIA's EPRES consists of the following nine surveys:

Form EIA-63B, Photovoltaic Module Shipments Report;

Form EIA-411, Coordinated Bulk Power Supply Program Report;

Form EIA-860, Annual Electric Generator Report;

Form EIA-860M, Monthly Update to the Annual Electric Generator Report;

Form EIA-861, Annual Electric Power Industry Report;

Form EIA-861S, Annual Electric Power Industry Report (Short Form);

Form EIA-861M, Monthly Electric Power Industry Report;

Form EIA-923, Power Plant Operations Report;

Form EIA-930, Balancing Authority Operations Report.

Form EIA-63B Photovoltaic Module Shipments Report tracks photovoltaic module manufacturing, shipments, technology types, revenue, and related information. The data collected on this form are used by DOE, Congress, other government and non-government entities, and the public to monitor the current status and trends of the photovoltaic industry and to evaluate the future of the industry.

Form EIA-411 Coordinated Bulk Power Supply Program Report collected information relating to the reliability of the electric power system in the lower 48 states, including regional electricity supply and demand projections for a 10-year advance period, the characteristics, and frequency of outages occurring on the Bulk Electric System, and other information on the transmission system and supporting facilities. The data are collected from the regional reliability entities by the North American Electric Reliability Corp., (NERC), which then organizes and edits the information and submits the data to EIA.

Form EIA-860, Annual Electric Generator Report collects data on existing and planned electric generation plants, and associated equipment including generators, boilers, cooling systems, and environmental control systems. Data are collected from all existing units and from planned units scheduled for initial commercial operation within ten years of the specified reporting period (depending on the type of power plant).

Form EIA-860M, Monthly Update to the Annual Electric Generator Report collects data on the status of proposed new generators scheduled to begin commercial operation within the future 12-month period; and existing generators that have proposed modifications that are scheduled for completion within one month. The information is needed to ensure a complete and accurate inventory of the nation's generating fleet, for such purposes as reliability and environmental analysis.

Form EIA-861, Annual Electric Power Industry Report collects annual information on the retail sale, distribution, transmission, and generation of electric energy in the United States and its territories. The data include related activities such as energy efficiency and demand response programs. In combination with Form EIA-861S short form and the monthly Form EIA-861M, this annual survey provides coverage of sales to ultimate customers of electric power and related activities. Form EIA-861S, Annual Electric Power Industry Report (Short Form) collects a limited set of information annually from small companies involved in the retail sale of electricity. A complete set of annual data are collected from large companies on Form EIA-861. The small utilities that currently report on Form EIA-861S are required to complete Form EIA-861 once every eight years to provide updated information for the statistical estimation of uncollected data. Form EIA-861M, Monthly Electric Power Industry Report collects monthly information from a sample of electric utilities, energy service providers and distribution companies that sell or deliver electric power to end users. Data included on this form includes sales and revenue for end-use sectors—residential, commercial, industrial, and transportation. This survey is the monthly complement to the annual data collection from the universe of respondents that report on Form EIA-861 and Form EIA-861S.

Form EIA-923, Power Plant Operations Report collects information from electric power plants in the United States on electric power generation, energy source consumption, end of reporting period fossil fuel stocks, as well as the quality and cost of fossil fuel receipts.

Form EIA-930, Balancing Authority Operations Report collects a comprehensive set of the current day's system demand data on an hourly basis and the prior day's basic hourly electric system operating data on a daily basis. The data provide a basic measure of the current status of electric systems in the United States and can be used to compare actual system demand with the day-ahead forecast thereby providing a measure of the accuracy of the forecasting used to commit resources. In addition, the data can be used to address smart grid related issues such as integrating wind and solar generation, improving the coordination of natural gas and electric short-term operations and expanding the use of demand response, storage, and electric vehicles in electric systems operations.

(4a) Proposed Changes to Information Collection:

Form EIA-411

EIA proposes to discontinue the use of Form EIA-411. Data reported on Form EIA-411 are collected by NERC and sent to EIA. NERC annually publishes an Electricity Supply and Demand (ES&D) public-use database at https://www.nerc.com/pa/RAPA/ESD/Pages/default.aspx. This ES&D database includes all the data that EIA published from the information reported on Form EIA-411. The ES&D public database contains more detail than the data EIA published.

(5) Annual Estimated Number of Respondents: 19,803:

Form EIA-63B has 55 respondents;

Form EIA-860 has 4,757 respondents;

Form EIA-860M has 312 respondents;

Form EIA-861 has 2,262 respondents;

Form EIA-861S has 1,157 respondents;

Form EIA-861M has 620 respondents;

Form EIA-923 has 10,575 respondents;

Form EIA-930 has 65 respondents.

(6) Annual Estimated Number of Total Responses: 75,220.

(7) Annual Estimated Number of Burden Hours: 169,870 hours.

(8) Annual Estimated Reporting and Recordkeeping Cost Burden: $12,573,777 (169,870 burden hours times $74.02 per hour). EIA estimates that there are no additional costs to respondents associated with the surveys other than the costs associated with the burden hours since the information is maintained during normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on April 19, 2019.
Nanda Srinivasan,
Director, Office of Survey Development and Statistical Integration U. S. Energy Information Administration.

[FR Doc. 2019-08319 Filed 4-24-19; 8:45 am]

BILLING CODE 6450-01-P